DEPARTMENT OF ENERGY

Federal Energy Regulatory Commission

Combined Notice of Filings #1

Take notice that the Commission received the following electric rate filings:

Docket Numbers: ER17-801-013.

Applicants: Constellation Power Source Generation, LLC.

Description: Compliance filing: Informational Filing Pursuant to Schedule 2 of the PJM OATT to be effective N/A.

Filed Date: 10/1/21.

Accession Number: 20211001-5182.

Comment Date: 5 p.m. ET 10/22/21.

Docket Numbers: ER17-803-005.

Applicants: Handsome Lake Energy, LLC.

Description: Compliance filing: Informational Filing Pursuant to Schedule 2 of the PJM OATT to be effective N/A.

Filed Date: 10/1/21.

Accession Number: 20211001-5180.

Comment Date: 5 p.m. ET 10/22/21.

Docket Numbers: ER21-45-002.

Applicants: Calvert Cliffs Nuclear Power Plant, LLC.

Description: Compliance filing: Informational Filing Pursuant to Schedule 2 of the PJM OATT to be effective N/A.

Filed Date: 10/1/21.

Accession Number: 20211001-5185.

Comment Date: 5 p.m. ET 10/22/21.

Docket Numbers: ER21-45-002.

Applicants: Calvert Cliffs Nuclear Power Plant, LLC.

Description: Compliance filing: Informational Filing Pursuant to Schedule 2 of the PJM OATT to be effective N/A.

Filed Date: 10/1/21.

Accession Number: 20211001-5185.

Comment Date: 5 p.m. ET 10/22/21.

Docket Numbers: ER21-500-001.

Applicants: Exelon Generation Company, LLC.

Description: Compliance filing: Informational Filing Pursuant to Schedule 2 of the PJM OATT to be effective N/A.

Filed Date: 10/1/21.

Accession Number: 20211001-5188.

Comment Date: 5 p.m. ET 10/22/21.

Docket Numbers: ER21-2330-000; ER21-2331-000; ER21-2333-000; ER21-2336-000.

Applicants: Tecolote Wind LLC, Red Cloud Wind LLC, Duran Mesa LLC, Clines Corners Wind Farm LLC.

Description: Supplement to July 1, 2021 Clines Corners Wind Farm LLC, et al. tariff filing.

Filed Date: 9/29/21.

Accession Number: 20210929-5183.

Comment Date: 5 p.m. ET 10/13/21.

Docket Numbers: ER21-2877-001.

Applicants: PJM Interconnection, L.L.C.

Description: Compliance filing: Compliance Filing Compliance Filing in ER21-2877 to be effective 9/2/2021.

Filed Date: 10/4/21.

Accession Number: 20211004-5026.

Comment Date: 5 p.m. ET 10/25/21.

Docket Numbers: ER22-26-000.

Applicants: PJM Interconnection, L.L.C.

Description: § 205(d) Rate Filing: Revisions to Administrative Cost Recovery Charges to be effective 12/2/2021.

Filed Date: 10/1/21.

Accession Number: 20211001-5184.

Comment Date: 5 p.m. ET 10/22/21.

Docket Numbers: ER22-27-000.

Applicants: Deseret Generation & Transmission Co-operative, Inc.

Description: § 205(d) Rate Filing: 2022 Rate Change Filing to be effective 1/1/2022.

Filed Date: 10/4/21.

Accession Number: 20211004-5003.

Comment Date: 5 p.m. ET 10/25/21.

Docket Numbers: ER22-28-000.

Applicants: Midcontinent Independent System Operator, Inc., Otter Tail Power Company.

Description: § 205(d) Rate Filing: Midcontinent Independent System Operator, Inc. submits tariff filing per 35.13(a)(2)(iii: 2021-10-04_SA 3713 WAPA-OTP FCA (Devils Lake) to be effective 9/30/2021.

Filed Date: 10/4/21.

Accession Number: 20211004-5018.

Comment Date: 5 p.m. ET 10/25/21.

Docket Numbers: ER22-29-000.

Applicants: Midcontinent Independent System Operator, Inc., Union Electric Company.

Description: § 205(d) Rate Filing: Midcontinent Independent System Operator, Inc. submits tariff filing per 35.13(a)(2)(iii: 2021-10-04_SA 3715 Ameren Missouri-Hannibal Construction Agreement to be effective 12/4/2021.

Filed Date: 10/4/21.

Accession Number: 20211004-5023.

Comment Date: 5 p.m. ET 10/25/21.

Docket Numbers: ER22-30-000.

Applicants: Alabama Power Company.

Description: Tariff Amendment: Urban Grid Solar Projects (Chase Solar) LGIA Termination Filing to be effective 10/4/2021.

Filed Date: 10/4/21.

Accession Number: 20211004-5025.

Comment Date: 5 p.m. ET 10/25/21.

Docket Numbers: ER22-31-000.

Applicants: Alabama Power Company.

Description: § 205(d) Rate Filing: Wadley Solar Amended and Restated LGIA Filing to be effective 9/20/2021.

Filed Date: 10/4/21.

Accession Number: 20211004-5030.

Comment Date: 5 p.m. ET 10/25/21.

Docket Numbers: ER22-32-000.

Applicants: Alabama Power Company.

Description: § 205(d) Rate Filing: SE Solar I (Kingston Solar) LGIA Filing to be effective 9/20/2021.

Filed Date: 10/4/21.

Accession Number: 20211004-5035.

Comment Date: 5 p.m. ET 10/25/21.

Docket Numbers: ER22-33-000.

Applicants: Alabama Power Company.

Description: § 205(d) Rate Filing: SE Solar I (Cedartown Solar) LGIA Filing to be effective 9/20/2021.

Filed Date: 10/4/21.

Accession Number: 20211004-5040.

Comment Date: 5 p.m. ET 10/25/21.

Docket Numbers: ER22-34-000.

Applicants: Alabama Power Company.

Description: § 205(d) Rate Filing: SE Solar II (Lumberton Solar) LGIA Filing to be effective 9/20/2021.

Filed Date: 10/4/21.

Accession Number: 20211004-5041.

Comment Date: 5 p.m. ET 10/25/21.

Docket Numbers: ER22-35-000.

Applicants: Alabama Power Company.

Description: § 205(d) Rate Filing: SE Solar II (Fayette Solar) LGIA Filing to be effective 9/20/2021.

Filed Date: 10/4/21.

Accession Number: 20211004-5042.

Comment Date: 5 p.m. ET 10/25/21.

Docket Numbers: ER22-36-000.

Applicants: Alabama Power Company.

Description: § 205(d) Rate Filing: SE Solar I (Berry Solar) LGIA Filing to be effective 9/20/2021.

Filed Date: 10/4/21.

Accession Number: 20211004-5043.

Comment Date: 5 p.m. ET 10/25/21.

Docket Numbers: ER22-37-000.

Applicants: IR Energy Management LLC.

Description: § 205(d) Rate Filing: Revised Market-Based Rate Tariff Filing to be effective 12/4/2021.

Filed Date: 10/4/21.

Accession Number: 20211004-5046.

Comment Date: 5 p.m. ET 10/25/21.

Docket Numbers: ER22-38-000.

Applicants: Duke Energy Carolinas, LLC.

Description: § 205(d) Rate Filing: NCMPA1 RS No. 318 Amendment (2022 Confirmation) to be effective 1/1/2022.

Filed Date: 10/4/21.

Accession Number: 20211004-5049.

Comment Date: 5 p.m. ET 10/25/21.

Docket Numbers: ER22-39-000.

Applicants: PJM Interconnection, L.L.C.

Description: § 205(d) Rate Filing: Original IISA, Service Agreement No. 6184; Queue No. AE2-148 to be effective 9/2/2021.

Filed Date: 10/4/21.

Accession Number: 20211004-5052.

Comment Date: 5 p.m. ET 10/25/21.

Docket Numbers: ER22-40-000.

Applicants: PSEG Power New York Inc.

Description: Baseline eTariff Filing: Application for Market Based Rate Authority to be effective 12/3/2021.

Filed Date: 10/4/21.

Accession Number: 20211004-5059.

Comment Date: 5 p.m. ET 10/25/21.

Docket Numbers: ER22-41-000.

Applicants: PJM Interconnection, L.L.C.

Description: § 205(d) Rate Filing: Amendment to ISA, Service Agreement No. 5071; Queue No. AB1-132 to be effective 4/16/2018.

Filed Date: 10/4/21.

Accession Number: 20211004-5060.

Comment Date: 5 p.m. ET 10/25/21.

Take notice that the Commission received the following PURPA 210(m)(3) filings:

Docket Numbers: QM22-1-000.

Applicants: Missouri River Energy Services.

Description: Application of Missouri River Energy Services to Terminate Its Mandatory Purchase Obligation under the Public Utility Regulatory Policies Act of 1978.

Filed Date: 9/30/21.

Accession Number: 20210930-5333.

Comment Date: 5 p.m. ET 10/28/21.

Docket Numbers: QM22-2-000.

Applicants: Missouri River Energy Services.

Description: Application of Missouri River Energy Services to Terminate Its Mandatory Purchase Obligation under the Public Utility Regulatory Policies Act of 1978.

Filed Date: 9/30/21.

Accession Number: 20210930-5342.

Comment Date: 5 p.m. ET 10/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2021.
Debbie-Anne A. Reese,
Deputy Secretary.

[FR Doc. 2021-22021 Filed 10-7-21; 8:45 am]

BILLING CODE 6717-01-P